DEPARTMENT OF LABOR

Employment and Training Administration

Notice of Proposed Information Collection Request Submitted for Public Comment and Recommendations; Form ETA-232, the Domestic Agricultural In-Season Wage Report, and Form ETA-232A, Wage Survey Interview Record

ACTION: Notice.

SUMMARY: The Department of Labor, as part of its continuing effort to reduce paperwork and respondent burden conducts a pre-clearance consultation program to provide the general public and Federal Agencies with an opportunity to comment on the proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before April 9, 2007.

ADDRESSES: Send comments to Brian Pasternak, Chief, Division of Policy Analysis and Technical Assistance, Office of Foreign Labor Certification, Employment and Training Administration, U.S. Department of Labor, Room C-4312, 200 Constitution Avenue NW., Washington, DC 20210-0001, 202-693-3010 (this is not a toll-free number), fax 202-693-2768.

FOR FURTHER INFORMATION CONTACT: Isabel D. Jean-Pierre, Temporary Programs Manager, Office of Foreign Labor Certification, Employment and Training Administration, U.S. Department of Labor, Room C-4312, 200 Constitution Avenue NW., Washington, DC 202-693-3010 (this is not a toll-free number), fax 202-693-2768.

SUPPLEMENTARY INFORMATION: I. Background. The Wagner-Peyser Act, as amended, provides that the State Workforce Agencies throughout the country shall assist the Office of Foreign Labor Certification in promoting uniformity in its administrative and Statistical procedures, furnishing and publishing information as to opportunities for employment and other information of value in the operation of its system, and maintaining a system for clearing labor between the states.

Pursuant to the Wagner-Peyser Act, the U.S. Department of Labor has established regulations at 20 CFR 653.500 covering the processing of agricultural intrastate and interstate job orders. Section 563.501 provides that the wage offered by employers must not be less than the prevailing wage or the applicable Federal or state minimum wage; whichever is higher. Also, the regulations for the temporary employment of H-2A alien agricultural and H-2 logging workers in the United States, 20 CFR, Part 655, Subpart B and C implementing relevant sections of the Immigration Reform and Control Act of 1986, requires farmers and other agricultural employers to pay workers the adverse effect wage rate, the prevailing wage rate, or the legal Federal or State minimum wage rate; whichever is highest.

The prevailing wage rate is used to implement these regulations covering intrastate and interstate recruitment of farmworkers. The vehicle for establishing the prevailing wage rate is Form ETA-232, The Domestic Agricultural In-Season Wage Report, and Form ETA-232-A, Wage Survey Interview Record. The ETA-232 Report contains the prevailing wage finding based on survey data collected from employers and reported by the States on Form ETA-232-A.

II. Desired Focus of Comments. Currently, the Employment and Training Administration is soliciting comments concerning the proposed request to extend the expiration date of the collection request to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are required to respond, including through the use of appropriate automated, electronic, mechanical, or other technological collection techniques or other forms of information technology, e.g., permitting electronic submissions of responses.

A copy of the proposed information collection request (ICR) can be obtained by contacting the office listed above in the addressee section of this notice.

III. Current Actions. Activity covered by regulations at 20 CFR 653.500 and 20 CFR 655 (B)(C), particularly the H-2A program, continues to expand, further increasing the need for accurate and timely wage information on which to base prevailing agricultural wage determinations. There is no similar wage information which is available or can be used for these determinations which apply to a specific crop or livestock activity, in a specific agricultural wage reporting area for a specific period of time during the peak harvest season.

Type of Review: Extension of Approved Collection.

Agency: Employment and Training Administration.

Title: Domestic Agricultural In-Season Wage Report, Form ETA-232 and Wage Survey Interview Record, Form ETA-232-A.

OMB Number: 1205-0017.

Cite/Reference/Form/etc: ETA-232 and ETA 232-A.

• Total Respondents: 38,855.

• Frequency: Annually.

• Total Responses: 39,405.

• Average Time Per Response: 11 hours (ETA Form 232); 15 minutes (ETA Form 232A).

Form/activity | Total respondents | Frequency | Total responses | Average time per response (hours) | Burden (hours)
ETA-232 | 50 | Annually | 600 | 11 | 6600
ETA-232-A | 38,805 | Annually | 38,805 | ¼ | 9,701
Totals | 38,855 |  | 39,405 |  | 16,301

Total Burden Cost (capital/startup): -0-

Total Burden Cost (operating/maintaining): -0-

Comments submitted in response to this notice will be summarized and/or included in the request for Office of Management and Budget approval of the information collection request; they will also become a matter of public record.

Signed at Washington, DC., this 31st day of January 2007.
William L. Carlson,
Administrator, Office of Foreign Labor Certification, Employment and Training Administration.

[FR Doc. 07-553 Filed 2-7-07; 8:45 am]

BILLING CODE 4510-30-M